FEDERAL COMMUNICATIONS COMMISSION

47 CFR Part 25

[IB Docket No. 12-267; Report No. 3053]

Petition for Reconsideration of Action in Rulemaking Proceeding

AGENCY: Federal Communications Commission.

ACTION: Petition for reconsideration.

SUMMARY: A Petition for Reconsideration (Petition) has been filed in the Commission's rulemaking proceeding by Nancy J. Eskenazi, on behalf of SES Americom, Inc. and New Skies Satellites B.V.

DATES: Oppositions to the Petition must be filed on or before November 18, 2016. Replies to an opposition must be filed on or before November 28, 2016.

ADDRESSES: Federal Communications Commission, 445 12th Street SW., Washington, DC 20554.

FOR FURTHER INFORMATION CONTACT: Clay DeCell, International Bureau at: (202) 418-0803 (voice), email: Clay.DeCell@fcc.gov.

SUPPLEMENTARY INFORMATION: This is a summary of the Commission's document, Report No. 3053, released October 24, 2016. The full text of the Petition is available for viewing and copying at the FCC Reference Information Center, 445 12th Street SW., Room CY-A257, Washington, DC 20554 or may be accessed online via the Commission's Electronic the Commission's Electronic Comment Filing System at: https://www.fcc.gov/ecfs/filing/10919110011734/document/10919110011734e7d2. The Commission will not send a copy of this Notice pursuant to the Congressional Review Act, 5 U.S.C. 801(a)(1)(A), because this Notice does not have an impact on any rules of particular applicability.

Subject: Comprehensive Review of Licensing and Operating Rules for Satellite Services, Second Report and Order, FCC 15-167, published at 81 FR 55316, August 18, 2016 in IB 12-267. This Notice is being published pursuant to 47 CFR 1.429(e). See also 47 CFR 1.4(b)(1) and 1.429(f), (g).

Number of Petitions Filed: 1.

Federal Communications Commission.
Marlene H. Dortch,
Secretary.

[FR Doc. 2016-26553 Filed 11-2-16; 8:45 am]

BILLING CODE 6712-01-P